DEPARTMENT OF THE INTERIOR

Fish and Wildlife Service

[FWS-R4-R-2008-N0084; 40136-1265-0000-S3]

Savannah Coastal Refuges' Complex

AGENCY: Fish and Wildlife Service, Interior.

ACTION: Notice of intent to prepare a comprehensive conservation plan and environmental assessment; request for comments.

SUMMARY: We, the U.S. Fish and Wildlife Service (Service), intend to prepare a comprehensive conservation plan (CCP) and associated National Environmental Policy Act (NEPA) documents for the Savannah Coastal Refuges' Complex. The Complex consists of the following refuges: Pinckney Island; Savannah; Tybee; Wassaw; Harris Neck; Blackbeard Island; and Wolf Island. A separate CCP is being prepared for the Wolf Island National Wildlife Refuge. We provide this notice in compliance with our CCP policy to advise other agencies, Tribes, and the public of our intentions, and to obtain suggestions and information on the scope of issues to consider in the planning process.

DATES: To ensure consideration, we must receive your written comments by July 3, 2008. An open house meeting will be held during the scoping phase of the Draft CCP development process. The date, time, and place for the meeting will be announced in the local media.

ADDRESSES: Comments, questions, and requests for information should be sent to: Jane Griess, Project Leader, Savannah Coastal Refuges' Complex, 1000 Business Center Drive, Suite 10, Savannah, GA 31405.

FOR FURTHER INFORMATION CONTACT: Jane Griess; Telephone: 912/652-4415; Fax: 912/652-4385; E-mail: savannahcoastalccp@fws.gov. You may find additional information concerning these refuges at the following Internet site: http://www.fws.gov/savannah.

SUPPLEMENTARY INFORMATION:

Introduction

With this notice, we initiate the process for developing a CCP for the Savannah Coastal Refuges' Complex, including the following: Pinckney Island National Wildlife Refuge in Beaufort County, South Carolina; Savannah National Wildlife Refuge in Chatham and Effingham Counties, Georgia and Jasper County, South Carolina; Tybee National Wildlife Refuge in Jasper County, South Carolina; Wassaw National Wildlife Refuge in Chatham County, Georgia; Harris Neck National Wildlife Refuge in McIntosh County, Georgia; and Blackbeard Island National Wildlife Refuge off the coast of McIntosh County, Georgia.

This notice complies with our CCP policy to (1) advise other Federal and State agencies, Tribes, and the public of our intention to conduct detailed planning on this refuge; and (2) obtain suggestions and information on the scope of issues to consider in the environmental document and during development of the CCP.

Background

The CCP Process

The National Wildlife Refuge System Improvement Act of 1997 (16 U.S.C. 668dd-668ee) (Improvement Act), which amended the National Wildlife Refuge System Administration Act of 1966, requires us to develop a CCP for each national wildlife refuge. The purpose in developing a CCP is to provide refuge managers with a 15-year strategy for achieving refuge purposes and contributing to the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

Each unit of the National Wildlife Refuge System is established for specific purposes. We use these purposes as a foundation for developing and prioritizing the management goals and objectives for each refuge within the National Wildlife Refuge System mission, and to determine how the public can use each refuge. The planning process is a way for us and the public to evaluate management goals and objectives for the best possible conservation approach to this important wildlife habitat, while providing for wildlife-dependent recreation opportunities that are compatible with each refuge's established purposes and the mission of the National Wildlife Refuge System.

Our CCP process provides participation opportunities for Tribal, State, and local governments; agencies; organizations; and the public. At this time we encourage input in the form of issues, concerns, ideas, and suggestions for the future management of the Savannah Coastal Refuges' Complex. Special mailings, newspaper articles, and other media outlets will be used to announce opportunities for input throughout the planning process.

We will conduct the environmental assessment in accordance with the requirements of the National Environmental Policy Act of 1969, as amended (NEPA) (42 U.S.C. 4321 et seq.); NEPA regulations (40 CFR parts 1500-1508); other appropriate Federal laws and regulations; and our policies and procedures for compliance with those laws and regulations.

The Complex is comprised of a chain of national wildlife refuges extending from Pinckney Island Refuge near Hilton Head Island, South Carolina, to Wolf Island Refuge near Darien, Georgia. Between these lie Savannah, Wassaw, Tybee, Harris Neck, and Blackbeard Island Refuges. Together they span a 100-mile coastline and total more than 56,000 acres. The refuges are administered from headquarters in Savannah, Georgia.

Pinckney Island Refuge includes the following islands: Pinckney; Corn; Big Harry; Little Harry; and Buzzard, as well as numerous small hammocks. Pinckney Island Refuge was established in 1975 and is comprised of 4,053 acres of salt marsh, tidal creeks, grassland, fallow fields, and freshwater ponds. The refuge provides habitat and protection for migratory and wading birds, raptors, alligators, and fish. Federally listed threatened and endangered species found on the refuge include American alligators, flatwoods salamanders, and wood storks. The refuge offers 14 miles of trails for wildlife-dependent public use opportunities and environmental education.

Savannah Refuge, near Savannah, Georgia, was established in 1927 and is comprised of 29,175 acres of freshwater marshes, tidal rivers and creeks, and bottomland hardwoods. The refuge contains 3,000 acres of freshwater impoundments built during the 1700s for rice production and now used to manage for migratory waterfowl. Many of the dikes are used for foot travel and provide opportunities for wildlife observation. Savannah Refuge also administers fall and winter hunts for deer, feral hog, squirrel, and turkey. Fishing is permitted in freshwater pools for much of the year. Several federally listed threatened and endangered species are found on the refuge, including American alligators, flatwoods salamanders, shortnose sturgeon, West Indian manatees, and wood storks.

Tybee Refuge, along the north side of the Savannah River in South Carolina, was established in 1938 as a breeding area for migratory birds. The majority of the 100-acre refuge is covered by sand deposits from U.S. Army Corps of Engineers' harbor maintenance dredging activities. Federally listed threatened and endangered species found on the refuge include American alligators and wood storks. Due to difficult access, the sensitive nature of the site, and occasional dredging activities, the refuge is closed to the public.

Wassaw Refuge, off the Georgia coast, is comprised of 10,053 acres of marsh, uplands, mudflats, and tidal creeks, including approximately seven miles of undeveloped beaches. The refuge, established in 1969, has kept its primitive character. Wassaw Refuge is accessible only by boat, and provides habitat and protection for migratory shore and wading birds, reptiles, raptors, and fish. Several federally listed threatened and endangered species are found on the refuge, including American alligators, West Indian manatees, piping plovers, wood storks, and leatherback and loggerhead sea turtles. Refuge management activities focus on habitat monitoring and protection. Opportunities for wildlife-dependent public use include 20 miles of dirt roads used for hiking, wildlife observation, and environmental education. Wassaw Refuge provides some opportunity for deer hunting, during the fall and winter months, and fishing.

Harris Neck Refuge, five miles north of Eulonia, Georgia, is comprised of 2,824 acres of saltwater marsh, grassland, mixed deciduous woods, moist-soil impoundments, and cropland. The refuge was established in 1962 by transfer of Federal lands formerly managed by the Federal Aviation Administration as a WWII Army airfield. Portions of the paved airfield are used as a wildlife drive, while other parts are used as walking trails. Federally listed threatened and endangered species found on the refuge include wood storks, flatwoods salamanders, and American alligators. Refuge management activities primarily focus on habitat management for marsh and wading birds, endangered wood storks, waterfowl, and resident wildlife, along with wildlife-dependent public recreation. Fishing is allowed in the tidal creek and piers have been constructed for public use. Deer hunting is allowed during fall and winter.

Blackbeard Island Refuge was acquired in 1800 by the Navy Department and was established as a national wildlife refuge in 1940. Situated off the Georgia coast and accessible by boat only, Blackbeard Island Refuge is comprised of 5,618 acres of maritime forest, salt marsh, freshwater marsh, and beach habitat, with 3,000 acres designated as Wilderness. These areas provide nesting and feeding areas for threatened loggerhead and leatherback sea turtles and American alligators; endangered piping plovers and wood storks; and species such as shorebirds, gulls, and terns. Refuge management activities focus on habitat monitoring and protection, along with wildlife-dependent public use opportunities and environmental education. Saltwater fishing is allowed. Two archery hunts for deer are scheduled during fall and winter.

Public Availability of Comments

Before including your address, phone number, e-mail address, or other personal identifying information in your comment, you should be aware that your entire comment, including your personal identifying information, may be made publicly available at any time. While you may ask us in your comments to withhold your personal identifying information from public review, we cannot guarantee that we will be able to do so.

Authority: This notice is published under the authority of the National Wildlife Refuge System Improvement Act of 1997, Public Law 105-57.

Dated: April 17, 2008.
Cynthia K. Dohner,
Acting Regional Director.

[FR Doc. E8-11110 Filed 5-16-08; 8:45 am]

BILLING CODE 4310-55-P